DEPARTMENT OF AGRICULTURE

Forest Service

Okanogan and Wenatchee National Forests Resource Advisory Committee

AGENCY: Forest Service, USDA.

ACTION: Notice of alternate meeting date.

SUMMARY: The Okanogan and Wenatchee National Forests Resource Advisory Committee will meet on Wednesday, May 18, 2005, at the Okanogan and Wenatchee National Forests Headquarters office, 215 Melody Lane, Wenatchee, Washington. The meeting will begin a 9 a.m. and continue until 3 p.m. Committee members will review Kittitas County and Yakima County projects proposed for Resource Advisory Committee consideration under Title II of the Secure Rural Schools and Community Self-Determination Act of 2000. All Okanogan and Wenatchee National Forests Resource Advisory Committee meetings are open to the public. Interested citizens are welcome to attend.

FOR FURTHER INFORMATION CONTACT: Direct questions regarding this meeting to Paul Hart, Designated Federal Official, USDA, Wenatchee National Forest, 215 Melody Lane, Wenatchee, Washington 98801, (509) 664-9200.

Dated: May 2, 2005.
James L. Boynton,
Forest Supervisor Okanogan and Wenatchee National Forests.

[FR Doc. 05-9061 Filed 5-5-05; 8:45 am]

BILLING CODE 3410-11-M